COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and services to the Procurement List that will be furnished by nonprofit agencies employing persons who are blind or have other severe disabilities, and deletes services from the Procurement List previously furnished by such agencies.

DATES: Effective: 2/22/2015.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 10/3/2014 (79 FR 59750-59751); 11/21/2014 (79 FR 69434-69435); 11/28/2014 (79 FR 70856-70857); 12/5/2014 (79 FR 72171), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

Product Names/NSNs

Kit, Pre-Cut Fabric, ECWCS Gen III Trouser, UCP

NSN: 8415-00-FAB-5250—S-R

NSN: 8415-00-FAB-5295—L-R

NSN: 8415-00-FAB-5296—L-L

NSN: 8415-00-FAB-5293—M-R

NSN: 8415-00-FAB-5297—XL-R

NSN: 8415-00-FAB-5298—XL-L

NSN: 8415-00-FAB-5207—XS-S

NSN: 8415-00-FAB-5226—S-S

NSN: 8415-00-FAB-5251—S-L

NSN: 8415-00-FAB-5294—M-L

NSN: 8415-00-FAB-5299—XL-XL

NSN: 8415-00-FAB-5302—XXL-R

NSN: 8415-00-FAB-5301—XXL-L

NSN: 8415-00-FAB-5303—XXL-XL

NSN: 8415-00-FAB-5249—XS-R

Kit, Pre-Cut Fabric, ECWCS Gen III Trouser, Multi-Cam

NSN: 8415-00-FAB-0899—S-R

NSN: 8415-00-FAB-0897—M-R

NSN: 8415-00-FAB-0895—L-R

NSN: 8415-00-FAB-0894—L-L

NSN: 8415-00-FAB-0903—XL-R

NSN: 8415-00-FAB-0901—XL-L

NSN: 8415-00-FAB-0908—XS-S

NSN: 8415-00-FAB-0907—XS-R

NSN: 8415-00-FAB-0900—S-S

NSN: 8415-00-FAB-0898—S-L

NSN: 8415-00-FAB-0896—M-L

NSN: 8415-00-FAB-0905—XL-XL

NSN: 8415-00-FAB-0914—XXL-R

NSN: 8415-00-FAB-0912—XXL-L

NSN: 8415-00-FAB-0916—XXL-XL

Tape, Seam, Pre-Cut component for ECWCS Gen III Trousers

NSN: 8415-00-TPE-0929—Black

Mandatory For Purchase By: Federal Prison Industries UNICOR, Federal Prison System, Washington, DC

Mandatory Source of Supply: Blind Industries & Services of Maryland, Baltimore, MD

Contracting Activity: Dept of Justice, Federal Prison System, Federal Prison Industries UNICOR, Washington, DC

List Type: C-List

Product Names/NSNs

Presentation Easel, Magnetic Whiteboard/Flipchart, 27″ x 35″, Adjustable Height Tripod Base/NSN: 7520-00-NIB-2202

Presentation Easel, Dbl. Sided Melamine Whiteboard/Flipchart, 27″ x 34″, Blk. U-Shaped Adj. Base/NSN: 7520-00-NIB-2203

Presentation Easel, Dbl. Sided 26″ x 34″ White Board/Flipchart, Black Frame, Adj. U-Shaped Base/NSN: 7520-00-NIB-2204

Presentation Easel, Melamine, 29″ x 40″ White Board/Flipchart, Black 4-Legged Adjustable Frame/NSN: 7520-00-NIB-2253

Presentation Easel w/Pad, Magnetic Whiteboard, 27″ x 39″, Silver U-shaped Frame, Adj. Height & Arms NSN: 7520-00-NIB-2254

Presentation Easel, Melamine Whiteboard/Flipchart, 26″ x 35″, Black Frame, Adjustable Height/NSN: 7520-00-NIB-2256

Mandatory For Purchase By: Total Government Requirement

Mandatory Source of Supply: The Lighthouse for the Blind, Inc. (Seattle Lighthouse), Seattle, WA

Contracting Activity: General Services Administration, Arlington, VA

List Type: A-List

Services

Service Type: Grounds Maintenance and Snow Removal Service

Service is Mandatory for: US Army, US Army Research Laboratory, 4402 Susquehanna Avenue, Aberdeen Proving Ground, MD

Mandatory Source of Supply: Melwood Horticultural Training Center, Upper Marlboro, MD

Contracting Activity: Dept of the Army, W2SD ENDIST Philadelphia, Philadelphia, PA

Service Type: Operations and Maintenance Service

Service is Mandatory For: Bureau of Engraving and Printing, Western Currency Facility, 9000 Blue Mound Road, Fort Worth, TX.

Mandatory Source of Supply: PRIDE Industries, Roseville, VA

Contracting Activity: Department of the Treasury, Bureau of Engraving and Printing, Washington, DC

Deletions

On 12/12/2014 (79 FR 73886), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Grounds Maintenance Service

Service is Mandatory For: United States Postal Service: General Mail Facility, San Jose, CA

Contracting Activity: U.S. Postal Service, Washington, DC

Service Type: Janitorial/Custodial Service

Service is Mandatory For: U.S. Army Reserve Center: Rockford, 1130 Arthur Avenue, Rockford, IL

Contracting Activity: Dept of the Army, W6QM MICC-ARCC North, Fort McCoy, WI

Barry S. Lineback,
Director, Business Operations.

[FR Doc. 2015-01011 Filed 1-21-15; 8:45 am]

BILLING CODE 6353-01-P